DEPARTMENT OF ENERGY

Federal Energy Regulatory Commission

[Docket No. AD03-7-000]

Natural Gas Price Formation; Notice of Agenda for the April 24, 2003, Staff Technical Conference

April 4, 2003.

As announced on March 14, the Federal Energy Regulatory Commission (FERC) will hold a technical conference on Thursday, April 24, 2003, to be held at FERC headquarters, 888 First Street, NW., Washington, DC, in the Commission Meeting Room (Room 2C). The purpose is to discuss issues related to the adequacy of natural gas price information. Issues of concern: Include ways to fix deficiencies in the manner price data are currently collected; how to increase reliability; and what alternative models might produce reliable natural gas price discovery.

We plan to hear from those who currently report transactions, receive and publish price information, use the published data reports, and those with constructive suggestions for overcoming impediments and inconsistencies. Parties with specific alternative models for achieving the goals are invited. We request that anyone with a specific proposal file it in this docket number for all to access. (Instructions on filing electronically can be found at http://www.ferc.gov/documents/makeanelectronicfiling/doorbell.htm.)

The one-day meeting will begin at 8:30 a.m. and conclude about 5 p.m. All interested parties are invited to attend. There is neither pre-registration nor a registration fee to attend. Attached is the Agenda for the day.

As mentioned in the March 14th notice, the Capitol Connection will broadcast this conference. Capitol Connection offers coverage of all open and special Commission meetings held at the Commission's headquarters live over the Internet, as well as via telephone and satellite. For a fee, you can receive these meetings in your office, at home, or anywhere in the world. To find out more about Capitol Connection's live Internet, phone bridge, or satellite coverage, contact David Reininger or Julia Morelli at (703) 993-3100, or visit www.capitolconnection.org. Capitol Connection also offers FERC open meetings through its Washington, DC-area television service.

The conference will be transcribed. Those interested in obtaining transcripts of the conference should contact Ace Federal Reporters at (202) 347-3700 or (800) 336 6646. Transcripts will be made available to view electronically under this docket number seven working days after the conference. Anyone interested in purchasing videotapes of the meeting should call VISCOM at (703) 715-7999.

For additional information, please contact Saida Shaalan of the Office of Market Oversight & Investigations at 202-502-8278 or by e-mail, Saida.Shaalan@ferc.gov.

Magalie R. Salas,
Secretary.

Conference Agenda

Natural Gas Price Formation; Agenda for the Staff Technical Conference on April 24, 2003

[Docket No. AD03-7-000]

• William Hederman, Director, Office of Market Oversight & Investigations—Welcoming remarks 8:30—8:45 a.m.

• Stephen Harvey, Deputy Director, Market Oversight & Assessment.

How do we arrive at good, reliable natural gas prices?

What are the different models for natural gas price reporting?

What should be the minimum standards for price information collected for use by the Commission in tariffs and orders?

• Panel 1—Private Sector Price Reporting Systems 8:45—10:45 a.m.

—Larry Foster, Platt's News Service

—Ellen Beswick or Mark Curran, Intelligence Press

—Andrew Ware, Energy Intelligence Group

—Michael Smith, Executive Director, Committee of Chief Risk Officers (CCRO)

—Chuck Vice, Senior Vice President and Chief Operating Officer, Inter-continentalExchange (ICE)

—Robert Levin, Senior Vice President, NYMEX

—Break 10:45—11 a.m.

• Panel 2—Governmental or Third Party Models 11 a.m.—12 p.m.

—Craig Pirrong, Bauer College of Business, University of Houston

—Obie O'Brien, Director of Government & Regulatory Affairs, Apache Corporation

—Representative from Energy Information Administration

—Representative from National Association of Securities Dealers

• Lunch 12—1:30 p.m.

• Panel 3—Industry Responses to the Morning's Discussion 1:30—3 p.m.

—Gerald Ballinger, President, Public Energy Authority of Kentucky (representing APGA)

—Arthur Corbin, President, Coalition for Energy Market Integrity and Transparency (EMIT)(Also, President & General Manager of the Municipal Gas Authority of Georgia)

—Al Musur, Director, Energy and Utility Programs for Abott Labs (also,Chair of the Industrial Energy Consumers of America (IECA)

—Thomas Skains, Chair of American Gas Association's (AGA) Board Task Force on Gas Price Index Reform (Also President & CEO, Piedmont Natural Gas)

—Representative from Natural Gas Supply Association

—Representative from INGAA

• Break 3—3:15 p.m.

• Panel 4—Financial Houses' and Other's Responses to the Morning's Discussion 3:15—4:30 p.m.

—Laurie Ferber, Managing Director, U.S. Power Trading, Goldman Sachs

—Randall Dodd, Derivatives Study Center

—Representative from Fitch Ratings

—Representative from SILCAP, LLC

Close 4:30 p.m.

[FR Doc. 03-8975 Filed 4-10-03; 8:45 am]

BILLING CODE 6717-01-P